DEPARTMENT OF ENERGY

Federal Energy Regulatory Commission

[Docket No. EG01-14-000, et al.]

Ameren Energy Generating Company, et al.; Electric Rate and Corporate Regulation Filings

November 3, 2000.

Take notice that the following filings have been made with the Commission:

1. Ameren Energy Generating Company

[Docket No. EG01-14-000]

Take notice that on October 31, 2000, Ameren Energy Generating Company (AEG), One Ameren Plaza, 1901 Chouteau Plaza, P.O. Box 66149, St. Louis, Missouri, 63166-6149, filed with the Federal Energy Regulatory Commission an application for determination of continuing exempt wholesale generator status pursuant to part 365 of the Commission's Regulations.

AEG states that it owns and operates a 168 MW natural gas fired combustion turbine (CT) generating facility located in Pinckneyville, Illinois, and a 230 MW dual fuel CT (oil and natural gas) generating facility located in Gibson City, Illinois. AEG also owns a 186 MW natural gas fired CT facility located in Joppa, Illinois. AEG states that all of the electric energy from these facilities is and will be sold at wholesale.

Comment date: November 24, 2000, in accordance with Standard Paragraph E at the end of this notice. The Commission will limit its consideration of comments to those that concern the adequacy or accuracy of the application.

2. Ameren Energy Development Company

[Docket No. EG01-15-000]

Take notice that on October 31, 2000, Ameren Energy Development Company (AED), One Ameren Plaza, 1901 Chouteau Plaza, P.O. Box 66149, St. Louis, Missouri, 63166-6149, filed with the Federal Energy Regulatory Commission an application for determination of continuing exempt wholesale generator status pursuant to part 365 of the Commission's Regulations.

AED states that it either directly or indirectly through an affiliate, owns and operates a 168 MW natural gas fired combustion turbine (CT) generating facility located in Pinckneyville, Illinois, and a 230 MW dual fuel CT (oil and natural gas generating facility located in Gibson City, Illinois. AED also leases a 186 MW natural gas fired CT facility located in Joppa, Illinois, and owns the facility indirectly through an affiliate. AED states that all of the electric energy from these facilities is and will be sold at wholesale.

Comment date: November 24, 2000, in accordance with Standard Paragraph E at the end of this notice. The Commission will limit its consideration of comments to those that concern the adequacy or accuracy of the application.

3. High Desert Power Project, LLC

[Docket No. EG01-16-000]

Take notice that on October 31, 2000, High Desert Power Project, LLC (the Applicant), with its principal place of business at 111 Market Place, Suite 200, Baltimore, Maryland 21202, filed with the Federal Energy Regulatory Commission an application for determination of exempt wholesale generator status pursuant to Part 365 of the Commission's regulations.

Comment date: November 24, 2000, in accordance with Standard Paragraph E at the end of this notice. The Commission will limit its consideration of comments to those that concern the adequacy or accuracy of the application.

4. Big Sandy Peaker Plant, LLC

[Docket No. EG01-17-000]

Take notice that on October 31, 2000, Big Sandy Peaker Plant, LLC (the Applicant), with its principal place of business at 111 Market Place, Suite 200, Baltimore, Maryland 21202, filed with the Federal Energy Regulatory Commission an application for determination of exempt wholesale generator status pursuant to Part 365 of the Commission's regulations.

Comment date: November 24, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-29177 Filed 11-14-00; 8:45 am]

BILLING CODE 6717-01-P